FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011075-069.

Title: Central America Discussion Agreement.

Parties: APL Co. PTE Ltd.; Crowley Liner Services, Inc.; Dole Ocean Cargo Express; Great White Fleet; King Ocean Services Limited; Trinity Shipping Line, S.A.; and Seaboard Marine, Ltd.

Filing Party: Wayne R. Rohde, Esq.; Sher & Blackwell LLP; 1850 M Street, NW.; Washington, DC 20036.

Synopsis: The amendment deletes Trinity Shipping Line, S.A. as a party to the agreement effective September 30, 2007.

Agreement No.: 011275-023.

Title: Australia/United States Discussion Agreement.

Parties: A.P. Moller-Maersk A/S; Hamburg-Süd; Safmarine Container Lines NV; and Hapag-Lloyd AG.

Filing Party: Wayne R. Rohde, Esq.; Sher & Blackwell LLP; 1850 M Street, NW.; Suite 900; Washington, DC 20036.

Synopsis: The amendment would add ANL Singapore Pte Ltd. as a party to the agreement.

By Order of the Federal Maritime Commission.
Dated: September 14, 2007.
Karen V. Gregory,
Assistant Secretary.

[FR Doc. E7-18493 Filed 9-18-07; 8:45 am]

BILLING CODE 6730-01-P